DEPARTMENT OF ENERGY

Federal Energy Regulatory Commission

Combined Notice of Filings

Take notice that the Commission has received the following Natural Gas Pipeline Rate and Refund Report filings:

Filings Instituting Proceedings

Docket Numbers: RP15-719-000.

Applicants: Chandeleur Pipe Line, LLC.

Description: Compliance filing per 154.203: Chandeleur Pipe Line Order No. 801 compliance filing to be effective 4/1/2015.

Filed Date: 3/30/15.

Accession Number: 20150330-5024.

Comments Due: 5 p.m. ET 4/13/15.

Docket Numbers: RP15-720-000.

Applicants: Sabine Pipe Line LLC.

Description: Compliance filing per 154.203: Sabine Pipe Line Order No. 801 compliance filing to be effective 4/1/2015.

Filed Date: 3/30/15.

Accession Number: 20150330-5025.

Comments Due: 5 p.m. ET 4/13/15.

Docket Numbers: RP15-721-000.

Applicants: ANR Storage Company.

Description: § 4(d) rate filing per 154.601: Twin Eagle/BP Canada FS Agmts to be effective 4/1/2015.

Filed Date: 3/30/15.

Accession Number: 20150330-5027.

Comments Due: 5 p.m. ET 4/13/15.

Docket Numbers: RP15-722-000.

Applicants: Pine Needle LNG Company, LLC.

Description: Compliance filing per 154.203: Order No. 801 PN Map Removal to be effective 5/1/2015.

Filed Date: 3/30/15.

Accession Number: 20150330-5028.

Comments Due: 5 p.m. ET 4/13/15.

Docket Numbers: RP15-723-000.

Applicants: Horizon Pipeline Company, L.L.C.

Description: § 4(d) rate filing per 154.204: Natural's Negotiated Rate to be effective 4/1/2015.

Filed Date: 3/30/15.

Accession Number: 20150330-5029.

Comments Due: 5 p.m. ET 4/13/15.

Docket Numbers: RP15-724-000.

Applicants: Transwestern Pipeline Company, LLC.

Description: Compliance filing per 154.203: Map Filing in Compliance with Order No. 801 to be effective 4/1/2015.

Filed Date: 3/30/15.

Accession Number: 20150330-5030.

Comments Due: 5 p.m. ET 4/13/15.

Docket Numbers: RP15-725-000.

Applicants: Natural Gas Pipeline Company of America.

Description: § 4(d) rate filing per 154.204: Negoitated Rate—Occidental to be effective 4/1/2015.

Filed Date: 3/30/15.

Accession Number: 20150330-5031.

Comments Due: 5 p.m. ET 4/13/15.

Docket Numbers: RP15-726-000.

Applicants: MarkWest Pioneer, L.L.C.

Description: Compliance filing per 154.203: MarkWest Pioneer Order No. 801 Compliance Filing to be effective 4/1/2015.

Filed Date: 3/30/15.

Accession Number: 20150330-5036.

Comments Due: 5 p.m. ET 4/13/15.

Docket Numbers: RP15-727-000.

Applicants: Texas Eastern Transmission, LP.

Description: § 4(d) rate filing per 154.204: NegRate—Apr2015 Eclipse release to Sequent to be effective 4/1/2015.

Filed Date: 3/30/15.

Accession Number: 20150330-5045.

Comments Due: 5 p.m. ET 4/13/15.

Docket Numbers: RP15-728-000.

Applicants: Transcontinental Gas Pipe Line Company.

Description: § 4(d) rate filing per 154.204: Negotiated Rates—Cherokee AGL—Replacement Shippers—Apr 2015 to be effective 4/1/2015.

Filed Date: 3/30/15.

Accession Number: 20150330-5078.

Comments Due: 5 p.m. ET 4/13/15.

Docket Numbers: RP15-729-000.

Applicants: Kinetica Energy Express, LLC.

Description: Compliance filing per 154.203: Map Filing in Compliance with Order 801 to be effective 4/1/2015.

Filed Date: 3/30/15.

Accession Number: 20150330-5207.

Comments Due: 5 p.m. ET 4/13/15.

Docket Numbers: RP15-730-000.

Applicants: Texas Eastern Transmission, LP.

Description: § 4(d) rate filing per 154.204: NJRES 910531 4-1-2015 Negotiated Rate to be effective 4/1/2015.

Filed Date: 3/30/15.

Accession Number: 20150330-5215.

Comments Due: 5 p.m. ET 4/13/15.

Docket Numbers: RP15-731-000.

Applicants: East Cheyenne Gas Storage, LLC.

Description: Compliance filing per 154.203: ECGS Order No. 801 compliance filing to be effective 4/1/2015.

Filed Date: 3/30/15.

Accession Number: 20150330-5226.

Comments Due: 5 p.m. ET 4/13/15.

Docket Numbers: RP15-732-000.

Applicants: Natural Gas Pipeline Company of America.

Description: § 4(d) rate filing per 154.204: Tenaska Negotiated Rate to be effective 4/1/2015.

Filed Date: 3/30/15.

Accession Number: 20150330-5238.

Comments Due: 5 p.m. ET 4/13/15.

Docket Numbers: RP15-733-000.

Applicants: MarkWest New Mexico, L.L.C.

Description: Compliance filing per 154.203: MarkWest New Mexico Order No. 801 Compliance Filing to be effective 4/1/2015.

Filed Date: 3/30/15.

Accession Number: 20150330-5262.

Comments Due: 5 p.m. ET 4/13/15.

Docket Numbers: RP15-734-000.

Applicants: KPC Pipeline, LLC.

Description: Compliance filing per 154.203: KPC Order No. 801 Compliance Filing to be effective 4/1/2015.

Filed Date: 3/30/15.

Accession Number: 20150330-5330.

Comments Due: 5 p.m. ET 4/13/15.

Docket Numbers: RP15-735-000.

Applicants: Fayetteville Express Pipeline LLC.

Description: Compliance filing per 154.203: Map Filing in Compliance with Order No. 801 to be effective 4/1/2015.

Filed Date: 3/30/15.

Accession Number: 20150330-5332.

Comments Due: 5 p.m. ET 4/13/15.

Docket Numbers: RP15-736-000.

Applicants: ETC Tiger Pipeline, LLC.

Description: Compliance filing per 154.203: Map Filing in Compliance with Order No. 801 to be effective 4/1/2015.

Filed Date: 3/30/15.

Accession Number: 20150330-5334.

Comments Due: 5 p.m. ET 4/13/15.

Docket Numbers: RP15-737-000.

Applicants: Algonquin Gas Transmission, LLC.

Description: § 4(d) rate filing per 154.204: BBPC 2015-04-01 Releases to EDF Trading to be effective 4/1/2015.

Filed Date: 3/30/15.

Accession Number: 20150330-5353.

Comments Due: 5 p.m. ET 4/13/15.

Docket Numbers: RP15-738-000.

Applicants: Dominion Transmission, Inc.

Description: Compliance filing per 154.203: DTI—Order 801 Map Compliance Filing to be effective 4/1/2015.

Filed Date: 3/30/15.

Accession Number: 20150330-5363.

Comments Due: 5 p.m. ET 4/13/15.

Docket Numbers: RP15-739-000.

Applicants: Dominion Cove Point LNG, LP.

Description: Compliance filing per 154.203: DCP—Order No. 801 Map Compliance Filing to be effective 4/1/2015.

Filed Date: 3/30/15.

Accession Number: 20150330-5364.

Comments Due: 5 p.m. ET 4/13/15.

Docket Numbers: RP15-740-000.

Applicants: Bear Creek Storage Company, L.L.C.

Description: Annual Report on Operational Transactions of Bear Creek Storage Company, L.L.C.

Filed Date: 3/30/15.

Accession Number: 20150330-5395.

Comments Due: 5 p.m. ET 4/13/15.

Docket Numbers: RP15-741-000.

Applicants: TC Offshore LLC.

Description: TC Offshore LLC Transporter's Use Report for Calendar Year Ending December 31, 2014.

Filed Date: 3/30/15.

Accession Number: 20150330-5426.

Comments Due: 5 p.m. ET 4/13/15.

Docket Numbers: RP15-742-000.

Applicants: Central New York Oil And Gas Company, L.

Description: Petition for Declaratory Order of Central New York Oil And Gas Company, L.L.C.

Filed Date: 3/30/15.

Accession Number: 20150330-5428.

Comments Due: 5 p.m. ET 4/13/15.

Docket Numbers: RP15-743-000.

Applicants: Questar Southern Trails Pipeline Company.

Description: Compliance filing per 154.203: RM14-21 Order 801 Compliance Filing—System Map to be effective 4/30/2015.

Filed Date: 3/30/15.

Accession Number: 20150330-5433.

Comments Due: 5 p.m. ET 4/13/15.

Docket Numbers: RP15-744-000.

Applicants: Questar Overthrust Pipeline Company.

Description: Compliance filing per 154.203: RM14-21 Order 801—System Map Compliance Filing to be effective 4/30/2015.

Filed Date: 3/30/15.

Accession Number: 20150330-5434.

Comments Due: 5 p.m. ET 4/13/15.

Docket Numbers: RP15-745-000.

Applicants: Questar Pipeline Company.

Description: Compliance filing per 154.203: RM14-21 Order 801 Compliance Filing-System Map to be effective 4/30/2015.

Filed Date: 3/30/15.

Accession Number: 20150330-5437.

Comments Due: 5 p.m. ET 4/13/15.

Docket Numbers: RP15-746-000.

Applicants: White River Hub, LLC.

Description: Compliance filing per 154.203: RM14-21 Order 801 Filing—System Map to be effective 4/30/2015.

Filed Date: 3/30/15.

Accession Number: 20150330-5443.

Comments Due: 5 p.m. ET 4/13/15.

Docket Numbers: RP15-747-000.

Applicants: Transcontinental Gas Pipe Line Company.

Description: § 4(d) rate filing per 154.204: Negotiated Rates—Mobile Bay South III to be effective 4/1/2015.

Filed Date: 3/30/15.

Accession Number: 20150330-5463.

Comments Due: 5 p.m. ET 4/13/15.

Docket Numbers: RP15-748-000.

Applicants: Gulf States Transmission LLC.

Description: Compliance filing per 154.203: Gulf States Transmission LLC—Compliance with Order No. 801 on Pipeline Maps to be effective 4/1/2015.

Filed Date: 3/30/15.

Accession Number: 20150330-5491.

Comments Due: 5 p.m. ET 4/13/15.

Docket Numbers: RP15-749-000.

Applicants: Columbia Gas Transmission, LLC.

Description: § 4(d) rate filing per 154.204: Negotiated Rate Amendment—ODEC to be effective 4/1/2015.

Filed Date: 3/30/15.

Accession Number: 20150330-5492.

Comments Due: 5 p.m. ET 4/13/15.

Docket Numbers: RP15-750-000.

Applicants: Guardian Pipeline, L.L.C.

Description: § 4(d) rate filing per 154.204: Negotiated Rate PAL Agreements—Koch Energy Services, LLC to be effective 3/30/2015.

Filed Date: 3/30/15.

Accession Number: 20150330-5498.

Comments Due: 5 p.m. ET 4/13/15.

Docket Numbers: RP15-751-000.

Applicants: Destin Pipeline Company, L.L.C.

Description: Compliance filing per 154.203: System Map Update to be effective 4/1/2015.

Filed Date: 3/30/15.

Accession Number: 20150330-5499.

Comments Due: 5 p.m. ET 4/13/15.

Docket Numbers: RP15-752-000.

Applicants: Natural Gas Pipeline Company of America.

Description: Compliance filing per 154.203: Order No. 801 Compliance to be effective 5/1/2015.

Filed Date: 3/31/15.

Accession Number: 20150331-5008.

Comments Due: 5 p.m. ET 4/13/15.

Docket Numbers: RP15-753-000.

Applicants: Midcontinent Express Pipeline LLC.

Description: Compliance filing per 154.203: Order No. 801 Compliance to be effective 5/1/2015.

Filed Date: 3/31/15.

Accession Number: 20150331-5009.

Comments Due: 5 p.m. ET 4/13/15.

Docket Numbers: RP15-754-000.

Applicants: Kinder Morgan Louisiana Pipeline LLC.

Description: Compliance filing per 154.203: Order No. 801 Compliance to be effective 5/1/2015.

Filed Date: 3/31/15.

Accession Number: 20150331-5012.

Comments Due: 5 p.m. ET 4/13/15.

Docket Numbers: RP15-755-000.

Applicants: Cheyenne Plains Gas Pipeline Company, L.

Description: Compliance filing per 154.203: Order No. 801 System Map Compliance Filing to be effective 5/1/2015.

Filed Date: 3/31/15.

Accession Number: 20150331-5020.

Comments Due: 5 p.m. ET 4/13/15.

Docket Numbers: RP15-756-000.

Applicants: Colorado Interstate Gas Company, L.L.C.

Description: Compliance filing per 154.203: Order No. 801 System Map Compliance Filing to be effective 5/1/2015.

Filed Date: 3/31/15.

Accession Number: 20150331-5022.

Comments Due: 5 p.m. ET 4/13/15.

Docket Numbers: RP15-757-000.

Applicants: Wyoming Interstate Company, L.L.C.

Description: Compliance filing per 154.203: Order No. 801 System Map Compliance Filing to be effective 5/1/2015.

Filed Date: 3/31/15.

Accession Number: 20150331-5024.

Comments Due: 5 p.m. ET 4/13/15.

Docket Numbers: RP15-758-000.

Applicants: Young Gas Storage Company, Ltd.

Description: Compliance filing per 154.203: Order No. 801 System Map Compliance Filing to be effective 5/1/2015.

Filed Date: 3/31/15.

Accession Number: 20150331-5026.

Comments Due: 5 p.m. ET 4/13/15.

Docket Numbers: RP15-759-000.

Applicants: Kinder Morgan Illinois Pipeline LLC.

Description: Compliance filing per 154.203: Order No. 801 Compliance to be effective 5/1/2015.

Filed Date: 3/31/15.

Accession Number: 20150331-5027.

Comments Due: 5 p.m. ET 4/13/15.

Docket Numbers: RP15-760-000.

Applicants: Ruby Pipeline, L.L.C.

Description: Compliance filing per 154.203: Order No. 801 System Map Compliance Filing to be effective 5/1/2015.

Filed Date: 3/31/15.

Accession Number: 20150331-5029.

Comments Due: 5 p.m. ET 4/13/15.

Docket Numbers: RP15-761-000.

Applicants: El Paso Natural Gas Company, L.L.C.

Description: Compliance filing per 154.203: Order No. 801 System Map Compliance Filing to be effective 5/1/2015.

Filed Date: 3/31/15.

Accession Number: 20150331-5030.

Comments Due: 5 p.m. ET 4/13/15.

Docket Numbers: RP15-762-000.

Applicants: Mojave Pipeline Company, L.L.C.

Description: Compliance filing per 154.203: Order No. 801 System Map Compliance Filing to be effective 5/1/2015.

Filed Date: 3/31/15.

Accession Number: 20150331-5032.

Comments Due: 5 p.m. ET 4/13/15.

Docket Numbers: RP15-763-000.

Applicants: TransColorado Gas Transmission Company L.

Description: Compliance filing per 154.203: Order No. 801 System Map Compliance Filing to be effective 5/1/2015.

Filed Date: 3/31/15.

Accession Number: 20150331-5034.

Comments Due: 5 p.m. ET 4/13/15.

Docket Numbers: RP15-764-000.

Applicants: Sierrita Gas Pipeline LLC.

Description: Compliance filing per 154.203: Order No. 801 System Map Compliance Filing to be effective 5/1/2015.

Filed Date: 3/31/15.

Accession Number: 20150331-5037.

Comments Due: 5 p.m. ET 4/13/15.

Docket Numbers: RP15-765-000.

Applicants: El Paso Natural Gas Company, L.L.C.

Description: § 4(d) rate filing per 154.204: No Fuel Segment to be effective 5/1/2015.

Filed Date: 3/31/15.

Accession Number: 20150331-5044.

Comments Due: 5 p.m. ET 4/13/15.

Docket Numbers: RP15-766-000.

Applicants: Wyoming Interstate Company, L.L.C.

Description: § 4(d) rate filing per 154.204: Tariff Merger Filing to be effective 5/1/2015.

Filed Date: 3/31/15.

Accession Number: 20150331-5047.

Comments Due: 5 p.m. ET 4/13/15.

Docket Numbers: RP15-767-000.

Applicants: Vector Pipeline L.P.

Description: Compliance filing per 154.203: Order No. 801 Compliance Filing to be effective 5/1/2015.

Filed Date: 3/31/15.

Accession Number: 20150331-5101.

Comments Due: 5 p.m. ET 4/13/15.

Docket Numbers: RP15-768-000.

Applicants: Carolina Gas Transmission Corporation.

Description: Compliance filing per 154.203: Order No 801 Compliance Filing to be effective 4/1/2015.

Filed Date: 3/31/15.

Accession Number: 20150331-5117.

Comments Due: 5 p.m. ET 4/13/15.

Docket Numbers: RP15-769-000.

Applicants: Panhandle Eastern Pipe Line Company, LP.

Description: Compliance filing per 154.203: Flow Through of Penalty Revenues Report filed on 3-31-15.

Filed Date: 3/31/15.

Accession Number: 20150331-5129.

Comments Due: 5 p.m. ET 4/13/15.

Docket Numbers: RP15-770-000.

Applicants: Equitrans, L.P.

Description: § 4(d) rate filing per 154.204: Negotiated Rate Service Agreement—BP effective 4-1-2015 to be effective 4/1/2015.

Filed Date: 3/31/15.

Accession Number: 20150331-5141.

Comments Due: 5 p.m. ET 4/13/15.

Docket Numbers: RP15-771-000.

Applicants: Equitrans, L.P.

Description: § 4(d) rate filing per 154.204: Update Initial Retainage Rate Effective 4-1-2015 to be effective 4/1/2015.

Filed Date: 3/31/15.

Accession Number: 20150331-5151.

Comments Due: 5 p.m. ET 4/13/15.

Docket Numbers: RP15-772-000.

Applicants: Rockies Express Pipeline LLC.

Description: Annual Incidental Purchases and Sales Report of Rockies Express Pipeline LLC.

Filed Date: 3/30/15.

Accession Number: 20150330-5577.

Comments Due: 5 p.m. ET 4/13/15.

Docket Numbers: RP15-773-000.

Applicants: Trailblazer Pipeline Company LLC.

Description: Annual Incidental Purchases and Sales Report of Trailblazer Pipeline Company LLC.

Filed Date: 3/30/15.

Accession Number: 20150330-5578.

Comments Due: 5 p.m. ET 4/13/15.

Docket Numbers: RP15-774-000.

Applicants: Equitrans, L.P.

Description: § 4(d) rate filing per 154.204: Negotiated Capacity Release Agreements—3/31/2015 to be effective 3/31/2015.

Filed Date: 3/31/15.

Accession Number: 20150331-5180.

Comments Due: 5 p.m. ET 4/13/15.

Docket Numbers: RP15-775-000.

Applicants: Panther Interstate Pipeline Energy, LLC.

Description: Compliance filing per 154.203: Panther Order No. 801 Compliance Filing to be effective 4/1/2015.

Filed Date: 3/31/15.

Accession Number: 20150331-5194.

Comments Due: 5 p.m. ET 4/13/15.

Docket Numbers: RP15-776-000.

Applicants: Gulf Crossing Pipeline Company LLC.

Description: § 4(d) rate filing per 154.204: Amendment to Neg Rate Agmt (BP 37-19) to be effective 4/1/2015.

Filed Date: 3/31/15.

Accession Number: 20150331-5196.

Comments Due: 5 p.m. ET 4/13/15.

Docket Numbers: RP15-777-000.

Applicants: Gulf South Pipeline Company, LP.

Description: § 4(d) rate filing per 154.204: Neg Rate Agmts Filing (Centerpoint 43985 & 43988) to be effective 4/1/2015.

Filed Date: 3/31/15.

Accession Number: 20150331-5198.

Comments Due: 5 p.m. ET 4/13/15.

Docket Numbers: RP15-778-000.

Applicants: Gulf South Pipeline Company, LP.

Description: § 4(d) rate filing per 154.204: Amendments to Neg Rate Agmts (FPL 41618 & 41619) to be effective 4/1/2015.

Filed Date: 3/31/15.

Accession Number: 20150331-5200.

Comments Due: 5 p.m. ET 4/13/15.

Docket Numbers: RP15-779-000.

Applicants: Gulf South Pipeline Company, LP.

Description: § 4(d) rate filing per 154.204: Non-conforming Agreements Update to be effective 4/1/2015.

Filed Date: 3/31/15.

Accession Number: 20150331-5202.

Comments Due: 5 p.m. ET 4/13/15.

Docket Numbers: RP15-780-000.

Applicants: Gulf South Pipeline Company, LP.

Description: § 4(d) rate filing per 154.204: Cap Rel Neg Rate Agmt (Encana 37663 to BP 44312, 44368) to be effective 4/1/2015.

Filed Date: 3/31/15.

Accession Number: 20150331-5204.

Comments Due: 5 p.m. ET 4/13/15.

Docket Numbers: RP15-781-000.

Applicants: Gulf South Pipeline Company, LP.

Description: § 4(d) rate filing per 154.204: Cap Rel Neg Rate Agmt (EOG 34687 to Tenaska 44350; Trans LA 44349) to be effective 4/1/2015.

Filed Date: 3/31/15.

Accession Number: 20150331-5205.

Comments Due: 5 p.m. ET 4/13/15.

Docket Numbers: RP15-782-000.

Applicants: Texas Gas Transmission, LLC.

Description: § 4(d) rate filing per 154.204: Non-conforming Agreement Filing (Clarksdale 20393) to be effective 4/1/2015.

Filed Date: 3/31/15.

Accession Number: 20150331-5207.

Comments Due: 5 p.m. ET 4/13/15.

Docket Numbers: RP15-783-000.

Applicants: Panhandle Eastern Pipe Line Company, LP.

Description: Compliance filing per 154.203: Flow Through of Cash Out Revenues filed on 3-31-15 to be effective 5/1/2015.

Filed Date: 3/31/15.

Accession Number: 20150331-5209.

Comments Due: 5 p.m. ET 4/13/15.

Docket Numbers: RP15-784-000.

Applicants: Southern LNG Company, L.L.C.

Description: Compliance filing per 154.203: Order No. 801 Map Compliance Filing to be effective 5/1/2015.

Filed Date: 3/31/15.

Accession Number: 20150331-5211.

Comments Due: 5 p.m. ET 4/13/15.

Docket Numbers: RP15-785-000.

Applicants: ANR Pipeline Company.

Description: § 4(d) rate filing per 154.403(d)(2): DTCA 2015 to be effective 5/1/2015.

Filed Date: 3/31/15.

Accession Number: 20150331-5212.

Comments Due: 5 p.m. ET 4/13/15.

Docket Numbers: RP15-786-000.

Applicants: Horizon Pipeline Company, L.L.C.

Description: Compliance filing per 154.203: Order No. 801 Compliance to be effective 5/1/2015.

Filed Date: 3/31/15.

Accession Number: 20150331-5216.

Comments Due: 5 p.m. ET 4/13/15.

Docket Numbers: RP15-787-000.

Applicants: American Midstream (AlaTenn), LLC.

Description: Compliance filing per 154.203: AlaTenn Order No. 801 Compliance Filing to be effective 4/1/2015.

Filed Date: 3/31/15.

Accession Number: 20150331-5219.

Comments Due: 5 p.m. ET 4/13/15.

Docket Numbers: RP15-788-000.

Applicants: American Midstream (Midla), LLC.

Description: Compliance filing per 154.203: Midla Order No. 801 Compliance Filing to be effective 4/1/2015.

Filed Date: 3/31/15.

Accession Number: 20150331-5225.

Comments Due: 5 p.m. ET 4/13/15.

Docket Numbers: RP15-789-000.

Applicants: High Point Gas Transmission, LLC.

Description: Compliance filing per 154.203: High Point Order No. 801 Compliance Filing to be effective 4/1/2015.

Filed Date: 3/31/15.

Accession Number: 20150331-5235.

Comments Due: 5 p.m. ET 4/13/15.

Docket Numbers: RP15-790-000.

Applicants: Southern Natural Gas Company, L.L.C.

Description: Compliance filing per 154.203: Order No. 801 Map Compliance Filing to be effective 5/1/2015.

Filed Date: 3/31/15.

Accession Number: 20150331-5255.

Comments Due: 5 p.m. ET 4/13/15.

Docket Numbers: RP15-791-000.

Applicants: Natural Gas Pipeline Company of America.

Description: § 4(d) rate filing per 154.204: J. Aron Negotiated Rate to be effective 4/1/2015.

Filed Date: 3/31/15.

Accession Number: 20150331-5256.

Comments Due: 5 p.m. ET 4/13/15.

Docket Numbers: RP15-792-000.

Applicants: Rockies Express Pipeline LLC.

Description: § 4(d) rate filing per 154.204: Neg Rate 2015-03-31 Encana, BP, ConocoPhillips to be effective 4/1/2015.

Filed Date: 3/31/15.

Accession Number: 20150331-5257.

Comments Due: 5 p.m. ET 4/13/15.

Docket Numbers: RP15-793-000.

Applicants: Trailblazer Pipeline Company LLC.

Description: § 4(d) rate filing per 154.204: Neg Rate 2015-03-31 Mieco to be effective 4/1/2015.

Filed Date: 3/31/15.

Accession Number: 20150331-5258.

Comments Due: 5 p.m. ET 4/13/15.

Docket Numbers: RP15-794-000.

Applicants: Elba Express Company, L.L.C.

Description: Compliance filing per 154.203: Order No. 801 Map Compliance Filing to be effective 5/1/2015.

Filed Date: 3/31/15.

Accession Number: 20150331-5259.

Comments Due: 5 p.m. ET 4/13/15.

Docket Numbers: RP15-795-000.

Applicants: Iroquois Gas Transmission System, L.P.

Description: Compliance filing per 154.203: 03/31/15 System Map Removal/.Replacement per FERC Order 801—RM14-21-000 to be effective 4/1/2015.

Filed Date: 3/31/15.

Accession Number: 20150331-5260.

Comments Due: 5 p.m. ET 4/13/15.

Docket Numbers: RP15-796-000.

Applicants: Algonquin Gas Transmission, LLC.

Description: § 4(d) rate filing per 154.204: ConEd 2015-04-01 release to BP Energy to be effective 4/1/2015.

Filed Date: 3/31/15.

Accession Number: 20150331-5269.

Comments Due: 5 p.m. ET 4/13/15.

Docket Numbers: RP15-797-000.

Applicants: Transcontinental Gas Pipe Line Company.

Description: Compliance filing per 154.203: Order No. 801 Tariff Map Removal to be effective 5/1/2015.

Filed Date: 3/31/15.

Accession Number: 20150331-5312.

Comments Due: 5 p.m. ET 4/13/15.

Docket Numbers: RP15-798-000.

Applicants: Columbia Gas Transmission, LLC.

Description: Compliance filing per 154.203: Order 801 Compliance Filing—System Maps to be effective 5/1/2015.

Filed Date: 3/31/15.

Accession Number: 20150331-5429.

Comments Due: 5 p.m. ET 4/13/15.

Docket Numbers: RP15-799-000.

Applicants: Columbia Gulf Transmission, LLC.

Description: Compliance filing per 154.203: Order 801 Compliance Filing—System Maps to be effective 5/1/2015.

Filed Date: 3/31/15.

Accession Number: 20150331-5433.

Comments Due: 5 p.m. ET 4/13/15.

Docket Numbers: RP15-800-000.

Applicants: Central Kentucky Transmission Company.

Description: Compliance filing per 154.203: Order 801 Compliance Filing—System Maps to be effective 5/1/2015.

Filed Date: 3/31/15.

Accession Number: 20150331-5435.

Comments Due: 5 p.m. ET 4/13/15.

Docket Numbers: RP15-801-000.

Applicants: Hardy Storage Company, LLC.

Description: Compliance filing per 154.203: Order 801 Compliance Filing—System Maps to be effective 5/1/2015.

Filed Date: 3/31/15.

Accession Number: 20150331-5436.

Comments Due: 5 p.m. ET 4/13/15.

Docket Numbers: RP15-802-000.

Applicants: Crossroads Pipeline Company.

Description: Compliance filing per 154.203: Order 801 Compliance Filing—System Maps to be effective 5/1/2015.

Filed Date: 3/31/15.

Accession Number: 20150331-5441.

Comments Due: 5 p.m. ET 4/13/15.

Docket Numbers: RP15-803-000.

Applicants: Millennium Pipeline Company, LLC.

Description: Compliance filing per 154.203: Order 801 Compliance Filing—System Maps to be effective 5/1/2015.

Filed Date: 3/31/15.

Accession Number: 20150331-5445.

Comments Due: 5 p.m. ET 4/13/15.

Docket Numbers: RP15-804-000.

Applicants: National Fuel Gas Supply Corporation.

Description: Compliance filing per 154.203: Order No. 801 CF (Map Link)—National Fuel to be effective 5/1/2015.

Filed Date: 3/31/15.

Accession Number: 20150331-5448.

Comments Due: 5 p.m. ET 4/13/15.

Docket Numbers: RP15-805-000.

Applicants: Vector Pipeline L. P.

Description: Annual Fuel Use Report of Vector Pipeline L. P.

Filed Date: 3/31/15.

Accession Number: 20150331-5475.

Comments Due: 5 p.m. ET 4/13/15.

Docket Numbers: RP15-806-000.

Applicants: Kern River Gas Transmission Company.

Description: 2015 Gas Compressor Fuel Report of Kern River Gas Transmission Company.

Filed Date: 3/31/15.

Accession Number: 20150331-5509.

Comments Due: 5 p.m. ET 4/13/15.

Docket Numbers: RP15-807-000.

Applicants: Texas Eastern Transmission, LP.

Description: § 4(d) rate filing per 154.204: Non-conforming Agreements for April 2015 to be effective 4/1/2015.

Filed Date: 3/31/15.

Accession Number: 20150331-5512.

Comments Due: 5 p.m. ET 4/13/15.

Docket Numbers: RP15-808-000.

Applicants: No Applicants listed for this docket/subdocket.

Description: § 4(d) rate filing per 154.204: 20150331 Negotiated Rate to be effective 4/1/2015.

Filed Date: 3/31/15.

Accession Number: 20150331-5552.

Comments Due: 5 p.m. ET 4/13/15.

Docket Numbers: RP15-809-000.

Applicants: East Tennessee Natural Gas, LLC.

Description: East Tennessee Natural Gas, LLC submits 2013-2014 Cashout Report.

Filed Date: 3/31/15.

Accession Number: 20150331-5576.

Comments Due: 5 p.m. ET 4/13/15.

Docket Numbers: RP15-810-000.

Applicants: Kinder Morgan Illinois Pipeline LLC.

Description: § 4(d) rate filing per 154.204: Filing to Substitute Published Index Prices to be effective 5/1/2015.

Filed Date: 3/31/15.

Accession Number: 20150331-5585.

Comments Due: 5 p.m. ET 4/13/15.

Docket Numbers: RP15-811-000.

Applicants: Transwestern Pipeline Company, LLC.

Description: Tariff Cancellation per 154.602: Cancel Rate Schedule FTS-4 to be effective 5/1/2015.

Filed Date: 3/31/15.

Accession Number: 20150331-5625.

Comments Due: 5 p.m. ET 4/13/15.

Docket Numbers: RP15-812-000.

Applicants: Empire Pipeline, Inc.

Description: § 4(d) rate filing per 154.204: Index (Empire) to be effective 4/1/2015.

Filed Date: 3/31/15.

Accession Number: 20150331-5626.

Comments Due: 5 p.m. ET 4/13/15.

Docket Numbers: RP15-813-000.

Applicants: Guardian Pipeline, L.L.C.

Description: § 4(d) rate filing per 154.204: Negotiated Rate PAL Agreements: Exelon Generation Company & Koch Energy Services to be effective 3/31/2015.

Filed Date: 3/31/15.

Accession Number: 20150331-5627.

Comments Due: 5 p.m. ET 4/13/15.

Docket Numbers: RP15-814-000.

Applicants: National Fuel Gas Supply Corporation.

Description: § 4(d) rate filing per 154.204: Index (Supply) to be effective 4/1/2015.

Filed Date: 3/31/15.

Accession Number: 20150331-5629.

Comments Due: 5 p.m. ET 4/13/15.

Docket Numbers: RP15-815-000.

Applicants: El Paso Natural Gas Company, L.L.C.

Description: § 4(d) rate filing per 154.601: Negotiated Rate Agreement Update (SRP) to be effective 4/1/2015.

Filed Date: 3/31/15.

Accession Number: 20150331-5637.

Comments Due: 5 p.m. ET 4/13/15.

Docket Numbers: RP15-816-000.

Applicants: Tennessee Gas Pipeline Company, L.L.C.

Description: Compliance filing per 154.203: MAPS Compliance Filing—Order No. 801 to be effective 5/1/2015.

Filed Date: 3/31/15.

Accession Number: 20150331-5641.

Comments Due: 5 p.m. ET 4/13/15.

Docket Numbers: RP15-817-000.

Applicants: Gulf Crossing Pipeline Company LLC.

Description: Compliance filing per 154.203: Compliance to Order No. 801 Filing to be effective 5/1/2015.

Filed Date: 4/1/15.

Accession Number: 20150401-5178.

Comments Due: 5 p.m. ET 4/13/15.

Docket Numbers: RP15-818-000.

Applicants: Gulf South Pipeline Company, LP.

Description: Compliance filing per 154.203: Compliance to Order 801 filing (URL for Maps) to be effective 5/1/2015.

Filed Date: 4/1/15.

Accession Number: 20150401-5181.

Comments Due: 5 p.m. ET 4/13/15.

Docket Numbers: RP15-819-000.

Applicants: Texas Gas Transmission, LLC.

Description: Compliance filing per 154.203: Compliance to Order No. 801 to be effective 5/1/2015.

Filed Date: 4/1/15.

Accession Number: 20150401-5183.

Comments Due: 5 p.m. ET 4/13/15.

Docket Numbers: RP15-820-000.

Applicants: Boardwalk Storage Company, LLC.

Description: Compliance filing per 154.203: Compliance to Order No. 801 to be effective 5/1/2015.

Filed Date: 4/1/15.

Accession Number: 20150401-5186.

Comments Due: 5 p.m. ET 4/13/15.

Docket Numbers: RP15-821-000.

Applicants: Gulf South Pipeline Company, LP.

Description: § 4(d) rate filing per 154.204: Amendments to Neg Rate Agmts (FPL 41618-4, 41619-2, 40097-11) to be effective 4/1/2015.

Filed Date: 4/1/15.

Accession Number: 20150401-5188.

Comments Due: 5 p.m. ET 4/13/15.

Docket Numbers: RP15-822-000.

Applicants: Gulf South Pipeline Company, LP.

Description: § 4(d) rate filing per 154.204: Cap Rel Neg Rate Agmts (PH 41455, 41448 to Texla and Sequent, various) to be effective 4/1/2015.

Filed Date: 4/1/15.

Accession Number: 20150401-5189.

Comments Due: 5 p.m. ET 4/13/15.

Docket Numbers: RP15-823-000.

Applicants: Viking Gas Transmission Company.

Description: Compliance filing per 154.203: Pipeline Maps—Compliance Filing Pursuant to Order No. 801 in RM14-21-000 to be effective 4/1/2015.

Filed Date: 4/1/15.

Accession Number: 20150401-5190.

Comments Due: 5 p.m. ET 4/13/15.

Docket Numbers: RP15-824-000.

Applicants: Stingray Pipeline Company, L.L.C.

Description: Compliance filing per 154.203: Stingray Order 801 Compliance Filing to be effective 4/1/2015.

Filed Date: 4/1/15.

Accession Number: 20150401-5195.

Comments Due: 5 p.m. ET 4/13/15.

Docket Numbers: RP15-825-000.

Applicants: Guardian Pipeline, L.L.C.

Description: Compliance filing per 154.203: Pipeline Maps—Compliance Filing Pursuant to Order No. 801 in RM14-21-000 to be effective 4/1/2015.

Filed Date: 4/1/15.

Accession Number: 20150401-5197.

Comments Due: 5 p.m. ET 4/13/15.

Docket Numbers: RP15-826-000.

Applicants: Midwestern Gas Transmission Company.

Description: Compliance filing per 154.203: Pipeline Maps—Compliance Filing Pursuant to Order No. 801 in RM14-21-000 to be effective 4/1/2015.

Filed Date: 4/1/15.

Accession Number: 20150401-5200.

Comments Due: 5 p.m. ET 4/13/15.

Docket Numbers: RP15-827-000.

Applicants: OkTex Pipeline Company, L.L.C.

Description: Compliance filing per 154.203: Pipeline Maps—Compliance Filing Pursuant to Order No. 801 in RM14-21-000 to be effective 4/1/2015.

Filed Date: 4/1/15.

Accession Number: 20150401-5203.

Comments Due: 5 p.m. ET 4/13/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-308-001.

Applicants: Golden Pass Pipeline LLC.

Description: Compliance filing per 154.203: Revised Tariff Record per 11/20/2014 Order 801 to be effective 4/1/2015.

Filed Date: 3/30/15.

Accession Number: 20150330-5365.

Comments Due: 5 p.m. ET 4/13/15.

Docket Numbers: RP15-23-004.

Applicants: Transwestern Pipeline Company, LLC.

Description: Compliance filing per 154.203: RP15-23 Place Rate Case Tariff Records into Effect to be effective 4/1/2015.

Filed Date: 3/31/15.

Accession Number: 20150331-5621.

Comments Due: 5 p.m. ET 4/13/15.

Docket Numbers: RP15-681-001.

Applicants: MIGC LLC.

Description: Tariff Withdrawal per 154.205(a): Withdraw Amendment to Docket No. RP15-681.

Filed Date: 3/31/15.

Accession Number: 20150331-5310.

Comments Due: 5 p.m. ET 4/13/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2015.
Nathaniel J. Davis, Sr.,
Deputy Secretary.

[FR Doc. 2015-08367 Filed 4-10-15; 8:45 am]

BILLING CODE 6717-01-P